SECURITIES AND EXCHANGE COMMISSION

Self-Regulatory Organizations; Notice of Application To Withdraw From Listing and Registration on the Philadelphia Stock Exchange, Inc. (Public Service Enterprise Group Inc., Common Stock, no par value) File No. 1-9120

October 17, 2001.

Public Service Enterprise Group Inc., a New Jersey corporation (“Issuer”), has filed an application with the Securities and Exchange Commission (“Commission”), pursuant to Section 12(d) of the Securities Exchange Act of 1934, as amended (“Act”),¹ and Rule 12d2-2(d) thereunder,² to withdraw its Common Stock, no par value (“Security”), from listing and registration on the Philadelphia Stock Exchange, Inc. (“Phlx” or “Exchange”).

¹ 15 U.S.C. 78l(d).

² 17 CFR 240.12d2-2(d).

The Board of Directors (“Board”) of the Issuer approved a resolution on January 16, 2001 to withdraw its Security from listing on the Exchange. The Security was suspended from trading on February 9, 2001. The Board believes that withdrawing the Security from the exchange will reduce its listing expenses. The Issuer will continue to list its Security on the New York Stock Exchange, Inc. (“NYSE”).

The Issuer states in its application that it has met the requirements of Phlx Rule 809 governing an issuer's voluntary withdrawal of a security from listing and registration. The Issuer's application relates solely to the withdrawal of the Security from the Phlx and shall have no effect upon its listing on the NYSE or its registration under Section 12(b) of the Act.³

³ 15 U.S.C. 78l(b).

Any interested person may, on or before November 8, 2001 submit by letter to the Secretary of the Securities and Exchange Commission, 450 Fifth Street, NW., Washington, DC 20549-0609, facts bearing upon whether the application has been made in accordance with the rules of the Phlx and what terms, if any, should be imposed by the Commission for the protection of investors. The Commission, based on the information submitted to it, will issue an order granting the application after the date mentioned above, unless the Commission determines to order a hearing on the matter.

⁴ 17 CFR 200.30-3(a)(1).

For the Commission, by the Division of Market Regulation, pursuant to delegated authority.⁴
Jonathan G. Katz,
Secretary.

[FR Doc. 01-26659 Filed 10-22-01; 8:45 am]

BILLING CODE 8010-01-M